COMMITTEE FOR PURCHASE FROM PEOPLE WHO ARE BLIND OR SEVERELY DISABLED

Procurement List; Additions

AGENCY: Committee for Purchase from People Who Are Blind or Severely Disabled.

ACTION: Additions to Procurement List.

SUMMARY: This action adds to the Procurement List products and services to be furnished by nonprofit agencies employing persons who are blind or have other severe disabilities.

EFFECTIVE DATE: September 21, 2003.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION: On August 2, and December 6, 2002, May 2, May 9, May 30, June 20, and June 27, 2003, the Committee for Purchase From People Who Are Blind or Severely Disabled published notice (67 FR 50416, and 72640, 68 FR 23441, 24919, 32458, 36972, and 38288) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement Lists:

Products

Product/NSN: Rochester Midland Envirocare Products

7930-00-NIB-0253, Carpet & Upholstery Cleaner

7930-00-NIB-0254, Food Service Cleaner

7930-00-NIB-0255, Glass Cleaner

7930-00-NIB-0256, Hand Soap

7930-00-NIB-0257, LiquiBac

7930-00-NIB-0258, Low Foam All Purpose Cleaner

7930-00-NIB-0259, Neutral Disinfectant

7930-00-NIB-0260, Tough Job

7930-00-NIB-0261, Washroom & Fixture Cleaner

NPA: Lighthouse for the Blind, St. Louis, Missouri

Contract Activity: Office Supplies & Paper Products Acquisition Center, New York, New York

Services

Service Type/Location: Administrative Services, INS, Secure Electronic Network for the Traveler's Rapid Inspection, (SENTRI) Enrollment Center, Otay Mesa, California

NPA: Job Options, Inc., San Diego, California

Contract Activity: Immigration and Naturalization Service, DOJ

Service Type/Location: Catering Service, Military Entrance Processing Station, Albany, New York

NPA: Albany County Chapter, NYSARC, Inc., Slingerlands, New York

Contract Activity: Directorate of Contracting, Fort Knox, Kentucky

Service Type/Location: Custodial Service

Aguadilla Customhouse, Aguadilla, Puerto Rico

CARIT Building, Guynabo, Puerto Rico

Cruise Ship Piers (1, 4, 6 & Front Pier), Old San Juan, Puerto Rico

Fajardo Customhouse, Fajardo, Puerto Rico

ICAT Airport, Louis Munoz Marin International Airport Carolina, Puerto Rico

Isla Grande Airport, Isla Grande, Puerto Rico

Mayaguez Customhouse, Mayaguez, Puerto Rico

Mayaguez Customhouse, San Juan, Puerto Rico

Miramar Customhouse, San Juan, Puerto Rico

Panamerican Dock, Isla Grande, Puerto Rico

Ponce Customhouse, Ponce, Puerto Rico

San Juan Customhouse, San Juan, Puerto Rico

NPA: The Corporate Source, Inc., New York, New York

Contract Activity: U.S. Customs Service, Indianapolis, Indiana

Service Type/Location: Custodial Services, Defense Finance and Accounting Service (DFAS)—Denver Center, Denver, Colorado

NPA: North Metro Community Services for Developmentally Disabled, Westminister, Colorado

Contract Activity: 460th Air Base Wing, Buckley AFB, Colorado

Service Type/Location: Dining Facility Attendant Services

29th Engineering Battalion, Building 503B, Fort Shafter, Hawaii

65th Engineering Battalion, Building 1492, Schofield Barracks, Hawaii

NPA: Opportunities for the Retarded, Inc., Wahiawa, Hawaii

Contract Activity: U.S. Army Support Command, Fort Shafter, Hawaii

Service Type/Location: Facilities/Grounds Maintenance, Addicks Field Office and Compound Storage Yard, Barker Visitors Areas, Dams, Reservoirs & Related Facilities, Houston, Texas

NPA: Training, Rehabilitation, & Development Institute, Inc., San Antonio, Texas

Contract Activity: U.S. Army Corps of Engineers, Galveston, Texas

Service Type/Location: Janitorial & Related Services, New Federal Building, Youngtown, Ohio

NPA: Youngstown Area Goodwill Industries, Youngstown, Ohio

Contract Activity: GSA, Public Buildings Service (5P), Chicago, Illinois

Service Type/Location: Janitorial/Custodial, Childcare Development Center Andersen AFB, Guam

NPA: Able Industries of the Pacific, Tamuning, Guam

Contract Activity: 36th CONS/LGCD, Andersen AFB, Guam

Service Type/Location: Janitorial/Custodial

Fort Shafter, Buildings 344 and 1507, Hawaii

Schofield Barracks, Buildings 690, 692 and 1087, Hawaii

NPA: Network Enterprises, Inc., Honolulu, Hawaii

Contract Activity: U.S. Army Support Command, Fort Shafter, Hawaii

Service Type/Location: Janitorial/Custodial, U.S. Customs Service, 8855 NE Airport Way, Portland, Oregon

NPA: Portland Habilitation Center, Inc., Portland, Oregon

Contract Activity: U.S. Customs Service, Indianapolis, Indiana

Service Type/Location: Janitorial/Custodial, Western Area Power Administration, Devils Lake Substation, Devils Lake, North Dakota

NPA: Lake Region Corporation, Devils Lake, North Dakota

Contract Activity: Western Area Power Administration, Bismarck, North Dakota

Service Type/Location: Janitorial/Grounds Maintenance

Bureau of Customs and Border Protection, McAllen Sector Quonset Hut, McAllen, Texas

Bureau of Customs and Border Protection, Traffic Checkpoint (Sarita)—McAllen Sector, Kingsville, Texas

Bureau of Customs and Border Protection, Traffic Checkpoint—McAllen Sector, Brownsville, Texas

Bureau of Customs and Border Protection, Traffic Checkpoint—McAllen Sector, Falfurrias, Texas

Bureau of Customs and Border Protection, Traffic Checkpoint (Mercedes)—McAllen Sector, Weslaco, Texas

Bureau of Customs and Border Protection Station, Electronic/Technical McAllen Sector, Kingsville, Texas

Bureau of Customs and Border Protection Station, McAllen Sector, Corpus Christi, Texas

Bureau of Customs and Border Protection Station (McAllen Sector) Falfurrias, Texas

Bureau of Customs and Border Protection Station (McAllen Sector) Harlingen, Texas

Bureau of Customs and Border Protection Station (McAllen Sector) Rio Grande City, Texas

NPA: Training, Rehabilitation, & Development Institute, Inc., San Antonio, Texas

Contract Activity: Immigration and Naturalization Service, DOJ

Service Type/Location: Office Supply Store, Department of Housing and Urban Development, St. Louis, Missouri

NPA: Alphapointe Association for the Blind, Kansas City, Missouri

Contract Activity: U.S. Department of Housing and Urban Development, St. Louis, Missouri

This action does not affect current contracts awarded prior to the effective date of this addition or options that may be exercised under those contracts.

Sheryl D. Kennerly,
Director, Information Management.

[FR Doc. 03-21562 Filed 8-21-03; 8:45 am]

BILLING CODE 6353-01-P